DEPARTMENT OF ENERGY

Federal Energy Regulatory Commission

[Project No. 2666-055]

Black Bear Hydro Partners, LLC; Notice of Intent To File License Application, Filing of Pre-Application Document, and Approving Use of the Traditional Licensing Process

a. Type of Filing: Notice of Intent to File License Application and Request to Use the Traditional Licensing Process.

b. Project No.: 2666-055.

c. Date Filed: March 28, 2024.

d. Submitted By: Black Bear Hydro Partners, LLC (Black Bear Hydro).

e. Name of Project: Medway Hydroelectric Project.

f. Location: On the West Branch of the Penobscot River, in Penobscot County, Maine.

g. Filed Pursuant to: 18 CFR 5.3 and 5.5 of the Commission's regulations.

h. Potential Applicant Contact: Mike Scarzello, Licensing Manager, Brookfield Renewable, 399 Big Bay Road, Queensbury, NY 12804; (315) 566-0197; email at michael.scarzello@brookfieldrenewable.com.

i. FERC Contact: Allan Creamer at (202) 502-8365; or email at allan.creamer@ferc.gov.

j. Black Bear Hydro filed its request to use the Traditional Licensing Process on March 28, 2024. Black Bear Hydro provided public notice of its request on April 2, 2024. In a letter dated May 24, 2024, the Director of the Division of Hydropower Licensing approved Black Bear Hydro's request to use the Traditional Licensing Process.

k. With this notice, we are initiating informal consultation with the U.S. Fish and Wildlife Service and/or the National Marine Fisheries Service under section 7 of the Endangered Species Act and the joint agency regulations thereunder at 50 CFR part 402. We are also initiating consultation with the Maine State Historic Preservation Officer, as required by section 106, National Historical Preservation Act, and the implementing regulations of the Advisory Council on Historic Preservation at 36 CFR 800.2.

l. With this notice, we are designating Black Bear Hydro as the Commission's non-Federal representative for carrying out informal consultation, pursuant to section 7 of the Endangered Species Act and section 106 of the National Historic Preservation Act.

m. Black Bear Hydro filed a Pre-Application Document (PAD; including a proposed process plan and schedule) with the Commission, pursuant to 18 CFR 5.6 of the Commission's regulations.

n. A copy of the PAD may be viewed and/or printed on the Commission's website (http://www.ferc.gov), using the “eLibrary” link. Enter the docket number, excluding the last three digits in the docket number field to access the document. For assistance, contact FERC Online Support at FERCOnlineSupport@ferc.gov, (886) 208-3676 (toll free), or (202) 502-8659 (TTY).

You may register online at http://www.ferc.gov/docs-filing/esubscription.asp to be notified via email of new filing and issuances related to this or other pending projects. For assistance, contact FERC Online Support.

o. The licensee states its unequivocal intent to submit an application for a new license for Project No. 2666. Pursuant to 18 CFR 16.20, each application for a new license and any competing license applications must be filed with the Commission at least 24 months prior to the expiration of the existing license. All applications for license for this project must be filed by March 31, 2027.

p. The Commission's Office of Public Participation (OPP) supports meaningful public engagement and participation in Commission proceedings. OPP can help members of the public, including landowners, environmental justice communities, Tribal members, and others, access publicly available information and navigate Commission processes. For public inquiries and assistance with making filings such as interventions, comments, or requests for rehearing, the public is encouraged to contact OPP at (202) 502-6595, or OPP@ferc.gov.

Dated: May 24, 2024.
Debbie-Anne A. Reese,
Acting Secretary.

[FR Doc. 2024-11996 Filed 5-30-24; 8:45 am]

BILLING CODE 6717-01-P